DEPARTMENT OF COMMERCE

National Oceanic and Atmospheric Administration

Agency Information Collection Activities; Submission to the Office of Management and Budget (OMB) for Review and Approval; Comment Request; National Sea Turtle Stranding and Salvage Network Stranding and Gear Interaction Data Collection

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 6, 2022.

ADDRESSES: Interested persons are invited to submit written comments to Adrienne Thomas, NOAA PRA Officer, at NOAA.PRA@noaa.gov. Please reference OMB Control Number 0648-0496 in the subject line of your comments. Do not submit Confidential Business Information or otherwise sensitive or protected information.

FOR FURTHER INFORMATION CONTACT: Requests for additional information or specific questions related to collection activities should be directed to Wendy Piniak, Biologist, NOAA National Marine Fisheries Service, Office of Protected Resources, 1315 East-West Highway, Silver Spring, Maryland 20910; (301) 427-8402, wendy.piniak@noaa.gov.

SUPPLEMENTARY INFORMATION:

I. Abstract

This is a request for revision and extension of collection 0648-0496 entitled “Reporting of Sea Turtle Entanglement in Fishing Gear or Marine Debris”. We request to revise the name of the collection to “National Sea Turtle Stranding and Salvage Network Stranding and Gear Interaction Data Collection” and to add new forms to the collection to be inclusive of all forms used by Sea Turtle Stranding and Salvage Network (STSSN).

NOAA's National Marine Fisheries Service (NMFS) and the U.S. Fish and Wildlife Service (USFWS) share federal jurisdiction for the conservation and recovery of sea turtles. In accordance with the 1977 Memorandum of Understanding between NMFS and USFWS, which was reaffirmed in 2015, NMFS serves as the lead for and coordinator of the STSSN. The STSSN currently responds to and documents, sick, injured, and dead (i.e., `stranded') sea turtles that are found in coastal areas under U.S. jurisdiction along the Atlantic Ocean and Gulf of Mexico. NMFS Office of Protected Resources coordinates the STSSN. The Sea Turtle Disentanglement Network (STDN) is a part of the STSSN. The STSSN is a cooperative effort of authorized federal, state, and private partners working to inform causes of morbidity and mortality in sea turtles by responding to and documenting stranded sea turtles. Information is collected in a manner sufficient to inform sea turtle conservation management and recovery. The STSSN accomplishes this through (1) collection of data in accordance with STSSN protocols; (2) improved understanding of causes of death and threats to sea turtles; (3) monitoring of stranding trends; (4) provision of initial aid to live stranded sea turtles; (5) provision of sea turtle samples/parts for conservation-relevant research; and (6) availability of timely data for conservation management purposes. To facilitate this data collection, the STSSN uses several standardized data collection forms. To ensure all data collected by the STSSN are in the same collection, we propose adding the following forms to 0648-0496: STSSN Stranding Report form, Gross Necropsy forms (2 page and 4 page versions), Cold Stun individual and batch forms, Fishing Gear Identification forms, and Incidental Capture Intake form (currently approved in collection 0648-0774, expiring December 31, 2024).

All species of sea turtle found in U.S. waters are listed as endangered or threatened under the Endangered Species Act (ESA). NMFS and the USFWS share federal jurisdiction for the conservation and recovery of sea turtles. Section 4(f) of the ESA (16 U.S.C. 1531-1544) provides for the creation of Recovery Plans for endangered and threatened species and provides NMFS and USFWS with authority “to procure the services of appropriate public and private agencies and institutions and other qualified persons” in order to implement those plans. To advance the conservation and recovery of listed sea turtles, each sea turtle recovery plan developed jointly by NMFS and USFWS identifies and highlights the need to maintain an active stranding network. Both NMFS and USFWS have promulgated regulations that provide an exception to the prohibitions on take and allow for coordinated response to stranded sea turtles in water and on land, based on their specific jurisdictional responsibility.

II. Method of Collection

Data will be collected using the following methods: paper format, electronically (internet), email, or interviews.

III. Data

OMB Control Number: 0648-0496.

Form Number(s): None.

Type of Review: Regular submission, revision and extension of approved collection.

Affected Public: Individuals or households; Not-for-profit institutions; State, Local, or Tribal government; Federal government.

Estimated Number of Respondents: 750.

Estimated Time per Response: STSSN Stranding Report form: 10 minutes; Gross Necropsy form (2 page version): 10 minutes; Gross Necropsy form (4 page version): 15 minutes; Cold Stun form and Cold Stun batch form: 10 minutes; Fishing Gear Identification forms: 10 minutes; Incidental Capture Intake form: 5 minutes; Entanglement form: 15 minutes.

Estimated Total Annual Burden Hours: 1,214 annually.

Estimated Total Annual Cost to Public: $100.

Respondent's Obligation: Voluntary.

Legal Authority: Endangered Species Act (16 U.S.C. 1531 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-14180 Filed 7-1-22; 8:45 am]

BILLING CODE 3510-22-P